DEPARTMENT OF DEFENSE

Office of the Secretary

[Docket ID: DOD-2010-OS-0138]

Privacy Act of 1974; System of Records

AGENCY: Department of Defense (DoD).

ACTION: Notice to alter a system of records.

SUMMARY: The Office of the Secretary of Defense proposes to alter a system of records in its inventory of record systems subject to the Privacy Act of 1974 (5 U.S.C. 552a), as amended.

DATES: This proposed action would be effective without further notice on November 3, 2010, unless comments are received which result in a contrary determination.

ADDRESSES: You may submit comments, identified by docket number and title, by any of the following methods:

* Federal Rulemaking Portal: http://www.regulations.gov. Follow the instructions for submitting comments.

* Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the Chief, OSD/JS Privacy Office, Freedom of Information Directorate, Washington Headquarters Services, 1155 Defense Pentagon, Washington, DC 20301-1155.

The proposed system report, as required by 5 U.S.C. 552a(r) of the Privacy Act of 1974, as amended, was submitted on September 21, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: September 29, 2010.
Mitchell S. Bryman,
Alternate OSD Federal Register Liaison Officer, Department of Defense.

DTIC 01

SYSTEM NAME:

Defense User Registration System (DURS) Records (November 12, 2008; 73 FR 66852).

Changes

* * * * *

CATEGORIES OF RECORDS IN THE SYSTEM:

Delete entry and replace with “Information relating to registration requests by individuals seeking access to DTIC-owned or controlled computers, databases, products, and/or services. The records contain the individual's name; Electronic Data Interchange Personal Identifier; citizenship; service type; personnel category; organization/company mailing address/physical location; e-mail address; registrants' USERID; password/reset questions; organization/company telephone number(s); access eligibility; dissemination/distribution group codes; and personal and facility security clearance level(s). The records also contain the government approving official's name, office phone number and e-mail address; dates of registration's activation and the projected date of expiration. Where applicable, the records contain contract number(s), contract expiration date(s), and the Military Critical Technical Data Agreement (MCTDA) Certification Number.”

AUTHORITY FOR MAINTENANCE OF THE SYSTEM:

Delete entry and replace with “5 U.S.C. 301, Departmental Regulations; E.O. 12958, Classified National Security Information; DoD 5200.1-R, Information Security Program; and Defense Information Systems Agency Instruction 240-110-8, Information Security Program.”

* * * * *

SAFEGUARDS:

Delete entry and replace with “Records are maintained in secure, limited access, or monitored areas. Database is monitored and access is password protected and Common Access Card (CAC) enabled. Physical entry by unauthorized persons is restricted through the use of locks, guards, passwords, or other administrative procedures. Archived data is stored on discs or magnetic tapes which are kept in a locked or controlled access area. Access to personal information is limited to those individuals who require the records to perform their official assigned duties.”

RETENTION AND DISPOSAL:

Delete entry and replace with “Electronic records are to be deleted when DTIC determines they are no longer needed for administrative, audit, legal or operational purposes.”

* * * * *

NOTIFICATION PROCEDURES:

Delete entry and replace with “Individuals seeking to determine whether this system of records contains information about themselves may address their inquiries to Defense Technical Information Center; ATTN: DTIC-BC (Registration Team), 8725 John J. Kingman Road, Suite 0944, Fort Belvoir VA 22060-6218.

Requests should contain the individual's full name, telephone number, street address, and e-mail address.”

RECORD ACCESS PROCEDURES:

Delete entry and replace with “Individuals seeking to access records about themselves contained in this system of records should address written inquiries to the Privacy Act Officer, Defense Technical Information Center, 8725 John J. Kingman Road, Suite 0944, Fort Belvoir, VA 22060-6218.

Requests should contain the individual's full name, telephone number, street address, and e-mail address.”

* * * * *

RECORD SOURCE CATEGORIES:

Delete entry and replace with “Individuals and security personnel.”

* * * * *

DTIC 01

SYSTEM NAME:

Defense User Registration System (DURS) Records

SYSTEM LOCATION:

Defense Technical Information Center (DTIC), Directorate of User Services, Marketing and Registration Division, ATTN: DTIC-BC (Registration), 8725 John J. Kingman Road, Suite 0944, Fort Belvoir, VA 22060-6218.

CATEGORIES OF INDIVIDUALS COVERED BY THE SYSTEM:

DoD and other U.S. Federal Government agency military and civilian personnel and their contractors; researchers of colleges or universities funded by DoD or other U.S. Federal Government agencies; students and employees of specifically qualifying educational institutions, Groups, and Programs, e.g., Historically Black Colleges, Universities, and Minority Institutions (HBCU/MI), Hispanic Serving Institutions (HSIs), and University Research Support (URS); awardees under the Multidisciplinary University Research Initiative (MURI); awardees and researchers eligible for awards under the Defense Experimental Program to Stimulate Competitive Research (DEPSCOR); designated officials and employees of foreign embassies; and members of Small Business Innovative Research (SBIR) Organizations/Groups.

CATEGORIES OF RECORDS IN THE SYSTEM:

Information relating to registration requests by individuals seeking access to DTIC-owned or controlled computers, databases, products, and/or services. The records contain the individual's name; Electronic Data Interchange Personal Identifier; citizenship; service type; personnel category; organization/company mailing address/physical location; e-mail address; registrants' USERID; password/reset questions; organization/company telephone number(s); access eligibility; dissemination/distribution group codes; and personal and facility security clearance level(s). The records also contain the government approving official's name, office phone number and e-mail address; dates of registration's activation and the projected date of expiration. Where applicable, the records contain contract number(s), contract expiration date(s), and the Military Critical Technical Data Agreement (MCTDA) Certification Number.

AUTHORITY FOR MAINTENANCE OF THE SYSTEM:

5 U.S.C. 301, Departmental Regulations; E.O. 12958, Classified National Security Information; DoD 5200.1-R, Information Security Program; and Defense Information Systems Agency Instruction 240-110-8, Information Security Program.

PURPOSE(S):

The purpose of this system of records is to collect, validate eligibility, and maintain an official registry file that identifies individuals and organizations who apply for, and are granted, access privileges to DTIC products, services and electronic information systems.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained may specifically be disclosed outside the DoD as a routine use pursuant to 552a(b)(3) as follows:

The DoD `Blanket Routine Uses' set forth at the beginning of the OSD's compilation of systems of records notices apply to this system.

POLICIES AND PRACTICES FOR STORING, RETRIEVING, ACCESSING, RETAINING, AND DISPOSING OF RECORDS IN THE SYSTEM:

STORAGE:

Electronic storage media.

RETRIEVABILITY:

Individual name, e-mail address, and security clearance level.

SAFEGUARDS:

Records are maintained in secure, limited access, or monitored areas. Database is monitored and access is password protected and Common Access Card (CAC) enabled. Physical entry by unauthorized persons is restricted through the use of locks, guards, passwords, or other administrative procedures. Archived data is stored on discs or magnetic tapes which are kept in a locked or controlled access area. Access to personal information is limited to those individuals who require the records to perform their official assigned duties.

RETENTION AND DISPOSAL:

Electronic records are to be deleted when DTIC determines they are no longer needed for administrative, audit, legal or operational purposes.

SYSTEM MANAGER(S) AND ADDRESS:

The Chief, Marketing and Registration Division, DTIC-BC, 8725 John J. Kingman Road, Suite 0944, Fort Belvoir, VA 22060-6218.

NOTIFICATION PROCEDURES:

Individuals seeking to determine whether this system of records contains information about themselves may address their inquiries to Defense Technical Information Center; ATTN: DTIC-BC (Registration Team), 8725 John J. Kingman Road, Suite 0944, Fort Belvoir VA 22060-6218.

Requests should contain the individual's full name, telephone number, street address, and e-mail address.

RECORD ACCESS PROCEDURES:

Individuals seeking to access records about themselves contained in this system of records should address written inquiries to the Privacy Act Officer, Defense Technical Information Center, 8725 John J. Kingman Road, Suite 0944, Fort Belvoir, VA 22060-6218.

Requests should contain the individual's full name, telephone number, street address, and e-mail address.

CONTESTING RECORD PROCEDURES:

The OSD rules for accessing records, for contesting contents and appealing initial agency determinations are published in OSD Administrative Instruction 81; 32 CFR part 311; or may be obtained from the system manager.

RECORD SOURCE CATEGORIES:

Individuals and security personnel.

EXEMPTIONS CLAIMED FOR THE SYSTEM:

None.

[FR Doc. 2010-24842 Filed 10-1-10; 8:45 am]

BILLING CODE 5001-06-P